FEDERAL COMMUNICATIONS COMMISSION

47 CFR Part 64

[CG Docket Nos. 02-278 and 05-338; FCC 06-42]

Rules and Regulations Implementing the Telephone Consumer Protection Act of 1991; Junk Fax Prevention Act of 2005

AGENCY: Federal Communications Commission.

ACTION: Final rule; announcement of effective date.

SUMMARY: In this document, the Commission announces that the Office of Management and Budget (OMB) has approved for three years the information collections contained in the Rules and Regulations Implementing the Telephone Consumer Protection Act (TCPA) of 1991, Report and Order and Third Order on Reconsideration (Report and Order). The Report and Order states that the Commission will publish a document in the Federal Register announcing the effective date of this rule.

DATES: 47 CFR 64.1200(a)(3)(i), (ii), (iii), (iv) and (vi) published at 71 FR 25967 (May 3, 2006) are effective August 1, 2006.

FOR FURTHER INFORMATION CONTACT: Erica H. McMahon, Consumer Policy Division, Consumer & Governmental Affairs Bureau at (202) 418-0346.

SUPPLEMENTARY INFORMATION: This document announces that, on July 19, 2006, OMB approved for three years the information collections contained in 47 CFR 64.1200(a)(3)(i), (ii), (iii), (iv) and (vi), published at 71 FR 25967 (May 3, 2006). The OMB Control Number is 3060-1088. The Commission publishes this notice of the effective date of the rules. If you have any comments on the burden estimates listed below, or how the Commission can improve the collections and reduce any burdens caused thereby, please write to Leslie F. Smith, Federal Communications Commission, Room 1-A804, 445 12th Street, SW., Washington, DC 20554. Please include the OMB Control Number, 3060-1088, in your correspondence. The Commission will also accept your comments via the Internet if you send them to Leslie.Smith@fcc.gov, or you may call (202) 418-0217.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the FCC is notifying the public that it received approval from OMB on July 19, 2006, for the collections of information contained in 47 CFR 64.1200(a)(3)(i), (ii), (iii), (iv) and (vi). The total annual reporting burden associated with this collection of information, including the time for gathering and maintaining the collections of information, is estimated to be: 5,000,000 respondents, a total annual hourly burden of 13,180,000 hours, and $60,000,000 in total annual costs. Under 5 CFR 1320, an agency may not conduct or sponsor a collection of information unless it displays a current, valid OMB Control Number.

No person shall be subject to any penalty for failing to comply with a collection of information subject to the Paperwork Reduction Act that does not display a valid OMB Control Number.

The foregoing notice is required by the Paperwork Reduction Act of 1995, Public Law 104-13, October 1, 1995, 44 U.S.C. 3507.

Federal Communications Commission.
Marlene H. Dortch,
Secretary.

[FR Doc. E6-12024 Filed 7-25-06; 8:45 am]

BILLING CODE 6712-01-P